DEPARTMENT OF HOMELAND SECURITY

Coast Guard

33 CFR Part 110

[CGD13-05-001]

RIN 1625-AA01

Anchorage Grounds; Anacortes General Anchorage and Cap Sante and Hat Island Tug and Barge General Anchorages, Anacortes, WA

AGENCY: Coast Guard, DHS.

ACTION: Final rule.

SUMMARY: The Coast Guard is establishing three general anchorages and two tug and barge general anchorages in the vicinity of Anacortes, Washington. These anchorages will reduce the risk of collisions, provide a more orderly movement of tanker traffic in and out of near by oil refineries, and keep the approaches to Guemes Channel open to transiting traffic while providing ample room for barge operations.

DATES: This rule is effective on July 5, 2005.

ADDRESSES: Comments and material received from the public, as well as documents indicated in this preamble as being available in the docket, are part of public docket [CGD13-05-001] and are available for inspection or copying at Sector Seattle between 8 a.m. and 4 p.m., Monday through Friday, except Federal holidays.

FOR FURTHER INFORMATION CONTACT: LTJG J. L. Hagen, Sector Seattle, 1519 Alaskan Way South, Seattle, WA 98134, (206) 217-6231.

SUPPLEMENTARY INFORMATION:

Regulatory Information

On March 1, 2005, we published a notice of proposed rulemaking (NPRM) entitled Anacortes General Anchorage and Cap Sante and Hat Island Tug and Barge General Anchorages, Anacortes, WA in the Federal Register (70 FR 9892). We received no letters commenting on the proposed rule. No public meeting was requested, and none was held.

Background and Purpose

The Guemes Channel and the waters near Cap Sante and March Point are used by oil tank ships and tugs and barges and recreational vessels. In April 2000 the Captain of the Port (COTP) Puget Sound, Port Angeles Pilots and representatives from the local oil industry and tug boat companies met to discuss efforts to minimize conflicts between vessels which transit Guemes Channel and vessels which anchor near Cap Sante and March Point. As a result of this meeting, the Coast Guard identified certain areas where vessels may anchor without presenting an unacceptably high risk of danger to navigation. Because these anchorages were not formally established, they are not included on nautical charts nor referenced in the Coast Pilot. Hence, vessels transiting the area may not know where vessels may be anchoring. This final rule designates anchorage grounds for certain vessels. These anchorages are managed by Vessel Traffic Service (VTS) Puget Sound on behalf of Sector Seattle and the COTP Puget Sound. Management of these anchorages will reduce the risk of collisions and provide a more orderly movement of tanker traffic in and out of oil refineries at March Point.

Discussion of Comments and Changes

No comments were received by the Coast Guard as a result of our request for comments in our NPRM. However, since publication of our NPRM the Coast Guard has stood-up Sector Seattle. Sector Seattle is an internal reorganization that combines Group Seattle, Vessel Traffic Service Puget Sound and Marine Safety Office Puget Sound into a single command. The Coast Guard has established a continuity of operations whereby all previous practices and procedures will remain in effect until superseded by an authorized Coast Guard official or document. Effective May 10, 2005, all existing missions and functions performed by Group Seattle, Vessel Traffic Service Puget Sound and Marine Safety Office Puget Sound are being performed by Sector Seattle. Group Seattle, Vessel Traffic Service Puget Sound and Marine Safety Office Puget Sound will no longer exist as organizational entities. The Sector Seattle Commander is also designated as the COTP for the Puget Sound COTP zone. Accordingly, we have made changes to this final rule to reflect the organization changes made by the stand-up of Sector Seattle. For additional information on Sector Seattle see our Notice of Organizational Change, docket number CGD13-05-012 published in the Federal Register on May 17, 2005 (70 FR 28312).

Regulatory Evaluation

This final rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Small Entities

Under the Regulatory Flexibility Act (5 U.S.C. 601-612), we have considered whether this final rule would have a significant economic impact on a substantial number of small entities. The term “small entities” comprises small businesses, not-for-profit organizations that are independently owned and operated and are not dominant in their fields, and governmental jurisdictions with populations of less than 50,000.

The Coast Guard certifies under 5 U.S.C. 605(b) that this final rule would not have a significant economic impact on a substantial number of small entities. This rule will affect the following entities, some of which may be small entities: the owners or operators of vessels intending to transit this portion of Puget Sound, The Strait of Juan de Fuca, and adjoining waters. Because the impacts are expected to be minimal, the Coast Guard certifies under 605(b) of the Regulatory Flexibility Act (5 U.S.C. 601 et seq.) that this final rule will not have significant economic impact on a substantial number of small entities.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This final rule calls for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This final rule would not effect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and would not create an environmental risk to health or risk to safety that might disproportionately affect children.

Indian Tribal Governments

This final rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because this final rule establishes anchorage grounds.

A final “Environmental Analysis Check List” and a final “Categorical Exclusion Determination” are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, 2071, 33 CFR 1.05-1(g); Department of Homeland Security Delegation No. 0170.1.

2. In § 110.230 add new paragraphs (a)(15), (16), and (17), redesignate paragraphs (b)(1) through (b)(9) as (b)(7) through (b)(15), respectively, and add new paragraphs (b)(1) through (b)(6) to read as follows:

§ 110.230 Puget Sound Area, WA

(a) * * *

(15) Anacortes General Anchorages.

(i) Anacortes East (ANE) Anchorage Area. The waters within a circular area with a radius of 600 yards, having its center at 48°31′27″ N., 122°33′45″ W. [Datum: NAD 1983].

(ii) Anacortes Center (ANC) Anchorage Area. The waters within a circular area with a radius of 600 yards, having its center at 48°30′54″ N, 122°34′06″ W. [Datum: NAD 1983].

(iii) Anacortes West (ANW) Anchorage Area. The waters within a circular area with a radius of 600 yards, having its center at 48°31′09″ N, 122°34′55″ W. [Datum: NAD 1983].

(16) Cap Sante Tug and Barge General Anchorage. The Cap Sante Tug and Barge General Anchorage includes all waters enclosed by a line connecting the following points: 48°31′16″ N, 122°36′00″ W, which is approximately the northeast tip of Cap Sante; then southeast to 48°30′53″ N, 122°35′28″ W; then west southwest to 48°30′45″ N, 122°35′52″ W, approximately the south tip of Cap Sante; then north along the shoreline to the point of origin. [Datum: NAD 1983].

(17) Hat Island Tug and Barge General Anchorage. The Hat Island Tug and Barge General Anchorage includes all waters enclosed by a line connecting the following points: 48°31′19″ N, 122°33′04″ W, near the west side of Hat Island; then southwest to 48°30′37″ N, 122°33′38″ W; then east to 48°30′37″ N, 122°32′00″ W; then northwest to the point of origin. [Datum: NAD 1983].

(b) Regulations.

(1) No vessel shall anchor in any general anchorage described in paragraph (a) of this section without prior permission from the Captain of the Port (COTP), or his authorized representative. Vessel Traffic Service Puget Sound is designated as the COTP's authorized representative. All vessels should seek permission at least 48 hours prior to arrival at the anchorage area in order to avoid unnecessary delays.

(i) Except for the Anacortes General Anchorages, a berth in a general anchorage, if available, may be assigned to any vessel by the Captain of the Port or his authorized representative upon application and he may grant revocable permits for the continuous use of the same berth. For the Anacortes General Anchorages, the following hierarchy will be applied for assignment of a berth: tankers conducting lightering operations, then loaded tankers, and then all other vessels.

(ii) Tugs and oil barges using the Cap Sante and Hat Island General Anchorages are exempt from the requirement to obtain the COTP's permission.

(2) Except for the Anacortes General Anchorages, no vessel shall occupy any general anchorage for a period longer than 30 days unless a permit is obtained from the Captain of the Port for that purpose. There is a 10 days maximum stay at the Anacortes East and Anacortes Center general anchorages, and 6 day maximum stay at the Anacortes West general anchorage.

(3) The COTP or his authorized representative may require vessels to depart from the Anacortes General Anchorage before the expiration of the authorized or maximum stay. The COTP or his authorized representative will provide at least 24-hour notice to a vessel required to depart the Anacortes General Anchorage.

(4) No vessel in a condition such that it is likely to sink or otherwise become a menace or obstruction to the navigation or anchorage of other vessels shall occupy any general anchorage except in an emergency and then only for such period as may be permitted by the Captain of the Port.

(5) Within the Anacortes General Anchorages, lightering operations shall only be conducted in the Anacortes West and Anacortes Center anchorages.

(6) Tugs and barges using the Cap Sante and Hat Island Barge General Anchorages are required to ensure their vessels and barges do not project beyond the holding area's boundaries. The tug must be manned, remain in attendance with the barge and maintain a communications guard with VTS on an appropriate VTS VHF radio working frequency, which is currently channel 5A.

* * * * *

Dated: May 13, 2005.
J.M. Garrett,
Rear Admiral, U.S. Coast Guard, Commander, Thirteenth Coast Guard District.

[FR Doc. 05-10898 Filed 6-1-05; 8:45 am]

BILLING CODE 4910-15-P